DEPARTMENT OF THE INTERIOR

Fish and Wildlife Service

[FWS-R4-ES-2008-N0044]; [40120-1112-0000-F5]

Receipt of Applications for Endangered Species Permits

AGENCY: Fish and Wildlife Service, Interior.

ACTION: Notice.

SUMMARY: The public is invited to comment on the following applications to conduct certain activities with threatened and endangered species.

DATES: We must receive written data or comments on the applications at the address given below, by April 16, 2008.

ADDRESSES: Documents and other information submitted with the applications are available for review, subject to the requirements of the Privacy Act and Freedom of Information Act, by any party who submits a written request for a copy of such documents to the following office within 30 days of the date of publication of this notice: Fish and Wildlife Service, 1875 Century Boulevard, Suite 200, Atlanta, Georgia 30345 (Attn: David Dell, HCP Coordinator).

FOR FURTHER INFORMATION CONTACT: David Dell, telephone 404/679-7313; facsimile 404/679-7081.

SUPPLEMENTARY INFORMATION: The public is invited to comment on the following applications for permits to conduct certain activities with endangered and threatened species pursuant to section 10(a)(1)(A) of the Endangered Species Act of 1973, as amended (16 U.S.C. 1531 et seq.). This notice is provided under section 10(c) of the Act. If you wish to comment, you may submit comments by any one of the following methods. You may mail comments to the Fish and Wildlife Service's Regional Office (see ADDRESSES section) or via electronic mail (e-mail) to david_dell@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Applicant: Georgia Select Fish Farm, Bartow, Georgia, TE163430.

The applicant requests authorization to harass or harm wood storks (Mycteria americana) for control of depredation at fish farming facilities in Jefferson County, Georgia.

Applicant: The Nature Conservancy, Kissimmee, Florida, TE088889.

The applicant requests amendment of their existing permit to add authorization to capture and translocate red-cockaded woodpecker (Picoides borealis) nestlings for management purposes at their Disney Wilderness Preserve, Osceola and Polk counties, Florida.

Applicant: Sam Van Hook, Kissimmee Valley Forester, Babson Park, Florida TE092854.

The applicant requests renewal of existing authorization to harass the red-cockaded woodpecker while conducting management activities for this species throughout Osceola County, Florida.

Applicant: Andrea Christman, Florida Division of Forestry, Brooksville, Florida TE002507.

The applicant requests renewal of existing authorization to harass the red-cockaded woodpecker while conducting management activities for this species throughout Florida.

Applicant: Forest Supervisor, Ouachita National Forest, Hot Springs, Arkansas, TE171518.

The applicant requests authorization to harass the red-cockaded woodpecker while conducting management activities for this species on Ouachita National Forest.

Applicant: N. Ross Carrie, Raven Environmental Services, Inc., Huntsville, Texas, TE171483.

The applicant requests authorization to harass the red-cockaded woodpecker while surveying population occurrence and conducting management activities for this species throughout Florida, Georgia, South Carolina, North Carolina, Tennessee, Alabama, Louisiana, Mississippi, and Texas.

Applicant: Clearwater Marine Aquarium, Inc., Clearwater, Florida, TE017848.

The applicant requests renewal of existing authorization to hold for veterinary treatment, to retain unreleasable specimens, or to euthanize specimens of Kemp's ridley (Lepidochelys kempii), hawksbill (Eretmochelys imbricata), leatherback (Dermochelys coriacea), green (Chelonia mydas), loggerhead (Caretta caretta), and olive ridley (Lepidochelys olivacea) sea turtles. Treatment facilities are at Clearwater Marine Aquarium, but specimens may be accepted from authorized sources throughout Florida and other southeastern states.

Applicant: Clinic for the Rehabilitation of Wildlife, Sanibel, Florida, TE054963.

The applicant requests renewal of existing authorization to hold for veterinary treatment, to retain unreleasable specimens, or to euthanize specimens of Kemp's ridley, hawksbill, leatherback, green, loggerhead, and olive ridley sea turtles. Treatment facilities are at the Clinic for the Rehabilitation of Wildlife, but specimens may be accepted from authorized sources throughout Florida and other southeastern states.

Applicant: Walt Disney World Living Seas, Lake Buena Vista, Florida, TE171488.

The applicant requests authorization to hold for veterinary treatment, to retain unreleasable specimens, or to euthanize specimens of Kemp's ridley, hawksbill, leatherback, green, loggerhead, and olive ridley sea turtles. Treatment facilities are at Walt Disney World Living Seas, but specimens may be accepted from authorized sources throughout Florida and other southeastern states.

Applicant: Jeanette Wyneken, Florida Atlantic University, Boca Raton, Florida, TE056217.

The applicant requests renewal of existing authorization to capture, examine, hold, and release hatchling leatherback, green, and loggerhead sea turtles to study the use of laparoscopic sexing techniques and conduct ecological research in Florida, Georgia, South Carolina, and North Carolina.

Applicant: Craig Martin, Wetland Sciences, Inc., Pensacola, Florida, TE171594.

The applicant requests authorization to capture, mark, and release Perdido Key beach mice (Peromyscus polionotus trissyllepsis), for population surveys in Escambia County, Florida and Baldwin County, Alabama.

Applicant: Elizabeth Phillips, Fort Chaffee Maneuver Training Center, Fort Chaffee, Arkansas, TE171577.

The applicant requests authorization to capture, tag, translocate, and release the American burying beetle (Nicrophorus americanus) for population monitoring and management on Fort Chaffee Maneuver Training Center and adjacent areas, Fort Chaffee, Arkansas.

Applicant: Bernard Kuhajda, University of Alabama, Tuscaloosa, Alabama, TE171563.

The applicant requests authorization to capture, examine, collect tissue samples, and release Alabama cavefish (Speoplatyrhinus poulsoni), for life history and genetic research in Lauderdale County, Alabama.

Applicant: Bobby R. Harrison, The Ivory-billed Woodpecker Foundation, Gurley, Alabama, TE171553.

The applicant requests authorization to use decoys and call recordings and to salvage specimens of the ivory-billed woodpecker (Campephilus principalis), to survey for species occurrence, and research survey techniques throughout potential species range in Arkansas, Alabama, Florida, Georgia, Illinois, Louisiana, Mississippi, Missouri, North Carolina, Texas, Tennessee, and South Carolina.

Applicant: Ronald K. Redman, Benton, Arkansas, TE171545.

The applicant requests authorization to capture, examine, and release gray bat (Myotis grisescens), Indiana bat (Myotis sodalis), and Ozark big-eared bat (Corynorhinus townsendii ingens), to survey for occurrences throughout Arkansas.

Applicant: Gary Libby, Skybax Ecological Services, Berea, Kentucky, TE156392.

The applicant requests authorization to capture, examine, and release gray bat, Indiana bat, and Ozark big-eared bats. The applicant requests authorization to conduct presence/absence surveys for forty-five threatened or endangered mussels, and seven threatened or endangered fish species. Species may be sampled in Missouri, Ohio, Illinois, Indiana, Kentucky, Tennessee, West Virginia, Virginia, Georgia, North Carolina, South Carolina, New Jersey, New York, Connecticut, Delaware, Massachusetts, Maryland, New Hampshire, Pennsylvania, Vermont, Mississippi, and Michigan.

Applicant: Memphis Zoo, Memphis, Tennessee, TE171493.

The applicant requests authorization to capture and rear Mississippi gopher frog (Rana capitol sevosa), larvae and tadpoles for research in treatment of diseases and in rearing techniques. Specimens would be captured from Harrison County, Mississippi, housed primarily at the Memphis Zoo, and may be transferred to other suitable facilities.

Applicant: Roel Lopez, Texas A&M University, Texas, TE079849.

The applicant requests renewal of existing authorization to capture, examine, hold, and release Lower Keys marsh rabbit (Sylvilagus palustris hefneri) to conduct population surveys and other research throughout the species range in the Florida Keys, Monroe County, Florida.

Dated: February 20, 2008.
Cynthia K. Dohner,
Acting Regional Director.

[FR Doc. E8-5273 Filed 3-14-08; 8:45 am]

BILLING CODE 4310-55-P